DEPARTMENT OF TRANSPORTATION

Federal Aviation Administration

International Conference on Fire and Cabin Safety Research

AGENCY: Federal Aviation Administration (FAA), DOT.

ACTION: Notice of public conference.

SUMMARY: This notice announces the International Conference on Fire and Cabin Safety Research, which is being held by the Federal Aviation Administration and is similar to conferences held in 1995 and 1998 to discuss the current state of cabin and fire safety research. The Joint Aviation Authorities of Europe, Transport Canada Civil Aviation, the Civil Aviation Bureau of Japan, and the Civil Aviation Safety Authority of Australia are jointly sponsoring the Cabin Safety Research Program and the conference.

DATES: The conference is scheduled for Monday through Thursday, October 22-25, 2001. The conference registration desk will be open from 6 p.m. until 8 p.m., October 21, and from 9 a.m. to 5 p.m., October 22. The conference will begin at 1:30 p.m., October 22.

Registration: Persons planning to attend the conference are encouraged to pre-register by contacting the person identified later in this notice as the contact for further information. The deadline for pre-registration is September 21, 2001. Attendance is open to the interested public, but will be limited to the space available. There is a $240 fee to attend the conference, which will include lunch and refreshments each day, as well as one dinner. Payment can be in the form of checks, VISA, or MasterCard.

ADDRESSES: The conference will be held at the Trump Taj Mahal Casino-Resort, 1000 Boardwalk at Virginia Ave., Atlantic City New Jersey, telephone 1-800-825-8888 (outside the United States: 609-449-1000).

FOR FURTHER INFORMATION CONTACT: April Horner, Galaxy Scientific Corporation, c/o FAA Technical Center, Fire Safety Branch, AAR-422, Bldg. 287, Atlantic City International Airport, New Jersey 08405; telephone 609-485-4471, fax 609-646-5229, or on the Internet at: April.CTR.Horner@tc.faa.gov.

SUPPLEMENTARY INFORMATION: Notice is given of a public conference to be held October 22-25, 2001, at the Trump Taj Mahal Casino-Resort, 1000 Boardwalk at Virginia Ave., Atlantic City New Jersey. This conference is a follow-up to similar conferences held in 1995 and 1998, and is intended to summarize the current state of cabin and fire safety research, as well as explore the directions of future research.

In order to more systematically address the subject of cabin safety research, the FAA, in conjunction with the Joint Aviation Authorities (JAA) of Europe and Transport Canada Civil Aviation (TCCA), developed a Cabin Safety Research Program (CSRP) plan. The CSRP describes a procedure whereby the various aviation authorities can identify, and assess the potential benefit of, research in different areas and later determine the appropriateness of specific cabin safety research. This plan was introduced at the 1995 conference, and the authorities have been working under its provisions since then.

While research has been very productive and has resulted in improved safety standards, it has been largely carried out in piecemeal fashion, outside of a systematic framework. There was no formal vehicle to integrate all cabin safety research so that the benefits are maximized, and the available funds are spent efficiently. The FAA has developed such a vehicle to improve both the efficiency and quality of future cabin safety research. Because research will often result in new guidance or regulation, and because the aviation industry is largely an international entity, this potential regulatory impact must be harmonized between regulatory authorities. Therefore, the development of the revised CSRP was coordinated with the JAA, TCCA, the Civil Aviation Bureau of Japan (JCAB), and the Civil Aviation Safety Authority of Australia (CASA).

Based on the success of both previous conferences, the FAA has determined that a follow-up is appropriate and timely, and that issues relating to fire safety in general (that is, fire safety not limited to the cabin) should be included. This conference will afford the interested public an opportunity to comment on the research programs currently underway, as well suggest the course of future research.

Additional information regarding the conference can be found on the World Wide Web, at: http://www.fire.tc./faa.gov.

Conference Agenda

Monday, October 22, 2001

Conference Opening Sessions: 1:30 PM-5:00 PM

Presentations of general interest and program goals

Tuesday, October 23, 2001

AM

Evacuation I—Fire—General Issues

PM

Evacuation II—Fire—Thermal Acoustic Insulation (including burnthrough); Fire—Detection

Wednesday, October 24, 2001

AM

Evacuation III—Crash Dynamics I—Fire—fuel Tank Inerting; Fire—Advanced Materials Flammability

PM

Evacuation IV—Operational Issues I—Crash Dynamics II—Fire—Fuel Tank Protection; Fire—Advanced Materials Flammability

Thursday, October 24, 2001

AM

Crash Dynamics III—Fire—Materials in Inaccessible Areas; Fire—Fire Suppression; Operational Issues II

PM

Operational Issues III—Fire—Material & Component Flammability; Fire—Fire Protection; Crash Dynamics IV

Note: This agenda involves simultaneous presentation of different topic areas. However, to the extent possible, subjects that might have broader applicability have been scheduled so as not to overlap.

Conference Procedures

Hotel room reservations should be made in advance. A block of rooms has been reserved at the Trump Casino-Resort at a special conference rate. Persons wishing to attend the conference are encouraged to make room reservations by September 21, 2001, by contacting the hotel direct at 1-800-825-8888 (outside the United States: 609-449-1000). Use the reservation code “AFAA01” to receive the special rate.

Persons outside the United States who have questions of a technical nature, or would like to find out more regarding the local Airworthiness Authority's involvement, may contact:

In Canada:

Mr. Claude Lewis, Transport Canada Civil Aviation, Aircraft Certification Branch—AARDH, Ottawa, Ontario, Canada K1A 0N8, telephone: 613-990-5906, fax: 613-996-9178; e-mail: lewis@tc.gc.ca.

In Japan:

Mr. Hiroaki Tomita, Civil Aviation Bureau of Japan (JCAB), Airworthiness Division. 2-1-3 Kasumigaseki, Chiyoda-ku, Tokyo, 100-8989, Japan, telephone: 813 3592 1362, fax: 813 3580 7963 e-mail: tomita-h2ei@mlit.go.jp

In Europe:

Mr. Graham Greene, U.K. Civil Aviation Authority, Safety Regulation Group, Aviation House, Gatwick RH6 OYR, United Kingdom, telephone: 44 1 293 573 462, fax: 44 1 293 573 981; e-mail: graham.greene@srg.caa.co.uk

In Australia:

Mr. Bruce Byers, Specialist Engineer, Crashworthiness, Civil Aviation Safety Authority, Level 1 Novell House, 71 Northbourne Ave, Canberra ACT 2600 telephone: 61 2 62171866; e-mail: BYERS B@casa.gov.au.

The following procedures are established to facilitate the workings of the conference.

• The conference will be open on a space available basis to all persons registered.

• A $240 fee will be charged for attending the conference. This fee will include lunch, as well as refreshments during breaks each day, and one dinner.

• Following each presentation, or series of presentations on a similar topic, a brief question and answer period may be allowed, and participants will be given the opportunity for open discussions, within the time available. In addition, there will be separate workshop sessions following some of the technical sessions for more in depth discussion.

• This conference is intended to address fire and cabin safety research, rather than regulatory, issues. As such, statements made by Airworthiness Authority participants at the conference will not be taken as expressing final Authority positions.

Issued in Renton, Washington, on June 5, 2001.
Ali Bahrami,
Acting Manager, Transport Airplane Directorate, Aircraft Certification Service.

[FR Doc. 01-14912 Filed 6-12-01; 8:45 am]

BILLING CODE 4910-13-M